DEPARTMENT OF ENERGY

Federal Energy Regulatory Commission

[Project No. 1971-134]

Idaho Power Company; Notice of Effectiveness of Withdrawal of As-Built Exhibit F Drawings

On July 17, 2025, Idaho Power Company (licensee) filed as-built Exhibit F drawings to reflect the re-built Oxbow fish hatchery ¹ for the Hells Canyon Project No. 1971.² On August 7, 2025, the licensee filed a notice of withdrawal of the request. The project is located on the Snake River in Adams and Washington counties, Idaho, and in Baker, Wallowa, and Malheur counties, Oregon. The project occupies federal lands administered by the U.S. Forest Service and the U.S. Bureau of Land Management.

¹ See Idaho Power Company, 182 FERC ¶ 62,051 (2023).

² Idaho Power Company, 14 FPC 55 (1955). The license expired on July 31, 2005, and is operating on annual licenses. The licensee filed a relicense application on July 29, 2003, which is currently pending with the Commission under a separate proceeding.

No motion in opposition to the notice of withdrawal has been filed, and the Commission has taken no action to disallow the withdrawal. Pursuant to Rule 216(b) of the Commission's Rules of Practice and Procedure,³ the withdrawal of the application became effective on August 22, 2025, and this proceeding is hereby terminated.

³ 18 CFR 385.216(b) (2024).

Dated: August 25, 2025.
Debbie-Anne A. Reese,
Secretary.

[FR Doc. 2025-16562 Filed 8-27-25; 8:45 am]

BILLING CODE 6717-01-P